DEPARTMENT OF DEFENSE

Office of the Secretary

Meeting of the Defense Advisory Committee on Women in the Services (DACOWITS)

AGENCY: Department of Defense.

ACTION: Notice.

SUMMARY: Pursuant to Section 10(a), Public Law 92-463, as amended, notice is hereby given of a forthcoming meeting of the Defense Advisory Committee on Women in the Services (DACOWITS). The purpose of the meeting is to receive update briefings from the Marine Corps and the Army on their assignment policies, and a briefing from the Sexual Assault Prevention and Response Office (SAPRO) on sexual assault prevention measures. Additionally, the Committee will provide a summary of their 2012 installation visits. The Committee will also receive briefings on deployed women's health issues. The meeting is open to the public, subject to the availability of space.

Interested persons may submit a written statement for consideration by the Defense Advisory Committee on Women in the Services. Individuals submitting a written statement must submit their statement to the Point of Contact listed at the address in FOR FURTHER INFORMATION CONTACT no later than 5 p.m., Friday, June 22, 2012. If a written statement is not received by Friday, June 22, 2012, prior to the meeting, which is the subject of this notice, then it may not be provided to or considered by the Defense Advisory Committee on Women in the Services until its next open meeting. The Designated Federal Officer will review all timely submissions with the Defense Advisory Committee on Women in the Services Chairperson and ensure they are provided to the members of the Defense Advisory Committee on Women in the Services. If members of the public are interested in making an oral statement, a written statement should be submitted to the address in FOR FURTHER INFORMATION CONTACT. After reviewing the written comments, the Chairperson and the Designated Federal Officer will determine who of the requesting persons will be able to make an oral presentation of their issue during an open portion of this meeting or at a future meeting. Determination of who will be making an oral presentation is at the sole discretion of the Committee Chair and the Designated Federal Officer and will depend on time available and if the topics are relevant to the Committee's activities. Two minutes will be allotted to persons desiring to make an oral presentation. Oral presentations by members of the public will be permitted only on Wednesday, June 27, 2012 from 11 a.m. to 12 p.m. in front of the full Committee. Number of oral presentations to be made will depend on the number of requests received from members of the public.

DATES: June 26, 2012, 8:30 a.m.-3:30 p.m.; June 27, 2012, 8:30 a.m.-12 p.m.

ADDRESSES: 300 Army Navy Drive, Arlington, VA 22202.

FOR FURTHER INFORMATION CONTACT: Mr. Robert Bowling or DACOWITS Staff at 4000 Defense Pentagon, Room 2C548A, Washington, DC 20301-4000. Robert.bowling@osd.mil. Telephone (703) 697-2122. Fax (703) 614-6233.

SUPPLEMENTARY INFORMATION:

Meeting Agenda

Tuesday, June 26, 2012, 8:30 a.m.-3:30 p.m.

—Welcome, introductions, and announcements.

—Briefing—Assignment Policy, USMC.

—Briefing—Assignment Policy, USA.

—Briefing—Summary of Installation Visits.

—Briefing—Sexual Assault Prevention Measures, SAPRO.

Wednesday, June 27, 2012, 8:30 a.m.-12 p.m.

—Welcome, introductions, and announcements.

—Briefing—Deployed Women's Health Issues.

—Briefing—Deployed Women's Health Study Results.

—Public Comment Period.

Dated: May 29, 2012.
Aaron Siegel,
Alternate OSD Federal Register Liaison Officer, Department of Defense.

[FR Doc. 2012-13318 Filed 5-31-12; 8:45 am]

BILLING CODE 5001-06-P